ENVIRONMENTAL PROTECTION AGENCY

[FRL-9276-4]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2330.01; Pesticide Registration Fees Program; was approved on 02/01/2011; OMB Number 2070-0179; expires on 02/28/2014; Approved without change.

EPA ICR Number 2395.01; Aerospace Manufacturing And Rework Industry Information Collection; was approved on 02/03/2011; OMB Number 2060-0654; expires on 02/28/2014; Approved with change.

EPA ICR Number 1857.05; NOX Budget Trading Program to Reduce the Regional Transport of Ozone; 40 CFR 51.121 and 51.122, 40 CFR part 75, subpart H; was approved on 02/07/2011; OMB Number 2060-0445; expires on 02/28/2014; Approved without change.

EPA ICR Number 2398.02; Regulation of Fuels and Fuel Additives: 2011 Renewable Fuel Standards—Petition for International Aggregate Compliance Approach; 40 CFR part 80; was approved on 02/09/2011; OMB Number 2060-0655; expires on 02/28/2014; Approved without change.

EPA ICR Number 2234.03; 2011 Drinking Water Infrastructure Needs Survey and Assessment (Reinstatement); was approved on 02/10/2011; OMB Number 2040-0274; expires on 02/28/2014; Approved with change.

EPA ICR Number 2393.01; NSPS and NESHAP for Pulp and Paper Sector Residual Risk and Technology Review (RTR); was approved on 02/17/2011; OMB Number 2060-0656; expires on 02/28/2014; Approved with change.

Short Term Extension of Expiration Date

EPA ICR Number 2147.06; Pesticide Registration Fee Waivers; a short term extension of the expiration date was granted by OMB on 02/01/2011; OMB Number 2070-0167; expires on 02/28/2011.

Dated: March 2, 2011.
John Moses,
Director, Collections Strategies Division.

[FR Doc. 2011-5199 Filed 3-7-11; 8:45 am]

BILLING CODE 6560-50-P